DEPARTMENT OF LABOR

Office of the Secretary

Submission for OMB Review: Comment Request

March 28, 2008.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: OMB Desk Officer for the Employee Benefits Security Administration (EBSA), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of currently approved collection.

Title: Suspension of Pension Benefits Regulation Pursuant to 29 CFR 2530.203-3.

OMB Number: 1210-0048.

Affected Public: Private Sector: Business or other for-profits.

Total Estimated Number of Respondents: 47,614.

Total Estimated Annual Burden Hours: 162,274.

Total Estimated Annual Costs Burden: $107,263.

Description: Section 203(a)(3)(B) of the Employee Retirement Security Act and regulations thereunder (see 29 CFR 2530.203-3) govern the circumstances under which pension plans may suspend pension benefit payments to retirees that return to work, or of participants who continue to work beyond normal retirement age. More specifically, in order for a plan to suspend benefits pursuant to the regulation, it must notify the affected retiree or participant during the first calendar month or payroll period in which the plan withholds payment that benefits are suspended. The notice must include the specific reasons for such suspension, a general description of the plan provisions authorizing the suspension, a copy of the relevant plan provisions, and a statement indicating where the applicable regulations may be found, i.e., 29 CFR 2530.203-3. In addition, the suspension notification must inform the retiree or participant of the plan's procedure for affording a review of the suspension of benefits.

The requirement that retirees or participants be notified in the event of a suspension of benefits is intended to protect their non-forfeitable right to their normal retirement benefits. By informing retirees or participants of the reasons for the suspension, the authority for the suspension, and the plan's procedure for review of a suspension of benefits, participants are made aware of the status of their pension benefits and are able to raise with the plan facts or issues that may be relevant to determining whether a suspension of benefits is proper under the circumstances. For additional information, see related notice published at 72 FR 72767 on December 21, 2007.

Darrin A. King,
Acting Departmental Clearance Officer.

[FR Doc. E8-7169 Filed 4-4-08; 8:45 am]

BILLING CODE 4510-29-P